DEPARTMENT OF THE INTERIOR

Fish and Wildlife Service

Notice of Availability; Draft Environmental Impact Statement on Resident Canada Goose Management; Reopening of Comment Period

AGENCY: Fish and Wildlife Service, Interior.

ACTION: Notice of availability for public comment; reopening of comment period.

SUMMARY: The U.S. Fish and Wildlife Service (Service) is reopening the comment period on a Draft Environmental Impact Statement (DEIS) which is available for public review. The DEIS analyzes the potential environmental impacts of alternative strategies to reduce, manage, and control resident Canada goose populations in the continental United States and to reduce goose-related damages. The analysis provided in the DEIS is intended to accomplish the following: inform the public of the proposed action and alternatives; address public comment received during the scoping period; and disclose the direct, indirect, and cumulative environmental effects of the proposed actions and each of the alternatives. The Service invites the public to comment on the DEIS.

DATES: Written comments on the DEIS must be received on or before October 20, 2003.

ADDRESSES: Requests for copies of the DEIS should be mailed to Chief, Division of Migratory Bird Management, U.S. Fish and Wildlife Service, Department of the Interior, 4401 North Fairfax Drive, MBSP-4107, Arlington, Virginia 22203. Copies of the DEIS can be downloaded from the Division of Migratory Bird Management Web site at http://migratorybirds.fws.gov. Comments on the DEIS should be sent to the above address. Alternatively, comments may be submitted electronically to the following address: canada_goose_eis@fws.gov.

FOR FURTHER INFORMATION CONTACT: Brian Millsap, Chief, Division of Migratory Bird Management, or Ron Kokel (703) 358-1714.

SUPPLEMENTARY INFORMATION: On March 1, 2002 (67 FR 9448), and March 7, 2002 (67 FR 10431), notices were published in the Federal Register announcing the availability of our DEIS on resident Canada goose management. On March 26, 2002 (67 FR 13792), we published a notice in the Federal Register to announce the schedule of public hearings to invite further public participation in the DEIS review process.

The DEIS evaluates alternative strategies to reduce, manage, and control resident Canada goose populations in the continental United States and to reduce goose-related damages. The objective of the DEIS is to provide a regulatory mechanism that would allow State and local agencies, other Federal agencies, and groups and individuals to respond to damage complaints or damages by resident Canada geese. The DEIS is a comprehensive programmatic plan intended to guide and intended to guide and direct resident Canada goose population growth and management activities in the conterminous United States. The DEIS analyzes seven management alternatives: (1) No Action (Alternative A); (2) Increase Use of Nonlethal Control and Management (excludes all permitted activities) (Alternative B); (3) Increase Use of Nonlethal Control and Management (continue permitting of those activities generally considered nonlethal) (Alternative C); (4) New Regulatory Options to Expand Hunting Methods and Opportunities (Alternative D); (5) Integrated Depredation Order Management (consisting of an Airport Depredation Order, a Nest and Egg Depredation Order, an Agricultural Depredation Order, and a Public Health Depredation Order) (Alternative E); (6) State Empowerment (Proposed Action) (Alternative F); and (7) General Depredation Order (Alternative G). Alternatives were analyzed with regard to their potential impacts on resident Canada geese, other wildlife species, natural resources, special status species, socioeconomics, historical resources, and cultural resources.

Our proposed action (Alternative F) would establish a regulation authorizing State wildlife agencies (or their authorized agents) to conduct (or allow) management activities, including the take of birds, on resident Canada goose populations when necessary to protect human health and safety; protect personal property, agricultural crops, and other interests from injury; and allow resolution or prevention of injury to people, property, agricultural crops, or other interests from resident Canada geese; and to reduce resident Canada goose populations within management objectives. Control and management activities include indirect and/or direct population control strategies such as aggressive harassment, trapping and relocation, nest and egg destruction, gosling and adult trapping and culling programs, or other general population reduction strategies. The intent of Alternative F is to allow State wildlife management agencies sufficient flexibility, within predefined guidelines, to deal with problems caused by resident Canada geese within their respective States. Other guidelines under Alternative F would include criteria for such activities as control options for taking geese during the portion of the Migratory Bird Treaty closed period (August 1-31), airport, agricultural, and public health control, and the non-permitted take of nests and eggs.

We are publishing simultaneously a proposed rule in the Federal Register that would implement our preferred alternative. Because of the publishing of the proposed rule, we have reopened the comment period on the DEIS. The Service invites careful consideration by all parties, and welcomes serious scrutiny from those committed to the long-term conservation of migratory birds.

In order to be considered, electronic submission of comments must include your name and postal mailing address; we will not consider anonymous comments. All comments received including names and addresses, will become part of the public record. The public may inspect comments during normal business hours at the Service's office in Room 4701, 4501 North Fairfax Drive, Arlington, Virginia. Requests for such comments will be handled in accordance with the Freedom of Information Act and the Council on Environmental Quality's National Environmental Policy Act regulations [40 CFR 1506.6(f)]. Our practice is to make all comments available for public inspection during regular business hours. Individual respondents may request that we withhold their home address from the record, which we will honor to the extent allowable by law. If a respondent wishes us to withhold his/her name and/or address, this must be stated prominently at the beginning of the comment.

Dated: July 1, 2003.
Steve Williams,
Director.

[FR Doc. 03-21269 Filed 8-20-03; 8:45 am]

BILLING CODE 4310-55-P